DEPARTMENT OF VETERANS AFFAIRS

VA New Hampshire Vision 2025 Task Force

The Department of Veterans Affairs (VA) gives notice under the Federal Advisory Committee Act that the VA New Hampshire Vision 2025 Task Force, which is a subcommittee of the Special Medical Advisory Group (SMAG), will meet November 29, 2017 from 8:00 a.m.-5:00 p.m. ET and November 30, 2017 from 8:00 a.m.-12:30 p.m. ET at the Department of Veterans Affairs, Manchester VA Medical Center, 718 Smyth Road, Manchester, NH 03104, Building 1, 1st Floor, Training & Education Room. The meeting is open to the public.

The purpose of the Subcommittee is to develop a comprehensive set of options and recommendations to develop a future vision of what VA must do to best meet the needs of New Hampshire Veterans. The recommendations will be reviewed by the SMAG and then those final recommendations will be forwarded to the Secretary and Under Secretary for Health for decision and action.

The agenda will include review of the history of Manchester's use of Care in the Community (non-VA care and the CHOICE program); recommendations from seven clinical service lines; an update on facility master planning; an update on VA's market assessment work in New Hampshire; and an update on transforming the culture of Manchester VA. No time will be allocated at this meeting for receiving oral presentations from the public. However, the public may submit written statements for the Subcommittee's review to Brenda Faas, Designated Federal Officer, Department of Veterans Affairs at Brenda.Faas@va.gov, or Thomas Pasakarnis, Alternate Designated Federal Officer, Department of Veterans Affairs at Thomas.Pasakarnis@va.gov. Any member of the public wishing to attend the meeting or seeking additional information should contact Mr. Pasakarnis.

Because the meeting will be held in a federal government building, anyone attending must be prepared to show a valid photo government issued ID. Please allow 15 minutes before the meeting begins for this process.

Dated: November 7, 2017.
LaTonya L. Small,
Federal Advisory Committee Management Officer.

[FR Doc. 2017-24569 Filed 11-13-17; 8:45 am]

BILLING CODE 8320-01-P